SMALL BUSINESS ADMINISTRATION

Reporting and Recordkeeping Requirements Under OMB Review

AGENCY: Small Business Administration.

ACTION: 30-Day notice.

SUMMARY: The Small Business Administration (SBA) is publishing this notice to comply with requirements of the Paperwork Reduction Act (PRA) (44 U.S.C. Chapter 35), which requires agencies to submit proposed reporting and recordkeeping requirements to OMB for review and approval, and to publish a notice in the Federal Register notifying the public that the agency has made such a submission. This notice also allows an additional 30 days for public comments.

DATES: Submit comments on or before September 21, 2015.

ADDRESSES: Comments should refer to the information collection by name and/or OMB Control Number and should be sent to: Agency Clearance Officer, Curtis Rich, Small Business Administration, 409 3rd Street SW., 5th Floor, Washington, DC 20416; and SBA Desk Officer, Office of Information and Regulatory Affairs, Office of Management and Budget, New Executive Office Building, Washington, DC 20503.

FOR FURTHER INFORMATION CONTACT: Curtis Rich, Agency Clearance Officer, (202) 205-7030, curtis.rich@sba.gov

Copies: A copy of the Form OMB 83-1, supporting statement, and other documents submitted to OMB for review may be obtained from the Agency Clearance Officer.

SUPPLEMENTARY INFORMATION: In recognition of the small business community's contributions to the nation's economy, the President of the United States designates one week each year as Small Business Week. As part of that week's activities the Small Business Administration (SBA) issues recognition awards to various small business owners, entrepreneurs and advocates. Award nominees and nominators submit this information to SBA for use in evaluating their eligibility for an award, verifying accuracy of information submitted, and determining whether there are any actual or potential conflicts of interest.

Summary of Information Collections:

Title: Small Business Administration Award Nomination.

Description of Respondents: Small Business Owners and Advocates who have been nominated for an SBA recognition award.

Form Number: 3300-3314.

Estimated Annual Responses: 600.

Estimated Annual Hour Burden: 900.

Curtis B. Rich,
Management Analyst.

[FR Doc. 2015-20639 Filed 8-20-15; 8:45 am]

BILLING CODE 8025-01-P